NATIONAL AERONAUTICS AND SPACE ADMINISTRATION

[Notice (03-158)]

Aviation Safety Reporting System Subcommittee; Meeting

AGENCY: National Aeronautics and Space Administration (NASA).

ACTION: Notice of meeting.

SUMMARY: The National Aeronautics and Space Administration announces a forthcoming meeting of the Aviation Safety Reporting System Subcommittee (ASRSS).

DATES: Thursday, January 29, 2004, 9 a.m. to 5 p.m.; and Friday, January 30, 2004, 9 a.m. to 12 noon.

ADDRESSES: Monterey Marriott Hotel, 350 Calle Principal, Monterey, CA 93940.

FOR FURTHER INFORMATION CONTACT: Ms. Mary-Ellen McGrath, Office of Aerospace Technology, National Aeronautics and Space Administration, Washington, DC 20546-0001, 202/358-4729.

SUPPLEMENTARY INFORMATION: The meeting will be open to the public up to the seating capacity of the room. The agenda for the meeting is as follows:

—ASRS Program

• Status Overview

• Strategic Planning

• Runway Safety Project

It is imperative that the meeting be held on these dates to accommodate the scheduling priorities of the key participants.

Michael F. O'Brien,
Assistant Administrator for External Relations.

[FR Doc. 03-31902 Filed 12-24-03; 8:45 am]

BILLING CODE 7510-01-P